DEPARTMENT OF LABOR

Employment and Training Administration

[TA-W-53,461]

Symtech, Inc., Spartanburg, SC; Notice of Negative Determination on Reconsideration

On January 28, 2004, the Department issued an Affirmative Determination Regarding Application for Reconsideration for the workers and former workers of the subject firm. The notice of determination was published in the Federal Register on February 11, 2004 (69 FR 6698).

The Department initially denied Trade Adjustment Assistance (TAA) to workers of Symtech, Inc., Spartanburg, South Carolina because the workers did not produce an article within the meaning of section 222 of the Trade Act and are not service workers whose separations were caused importantly by a reduced demand for their services from a parent firm, a firm otherwise related to their firm by ownership, or a firm related by control.

In the request for reconsideration, the petitioner alleged that production did occur at the subject company and therefore, the service worker designation was erroneous.

The reconsideration investigation revealed that although machine assembly was done at the subject company, it was a negligible amount of total company sales during the relevant time period. The main functions of the company were the sale, distribution, and servicing of machines.

Conclusion

After review of the application and investigative findings, I conclude that there has been no error or misinterpretation of the law or of the facts which would justify reconsideration of the Department of Labor's prior decision. Accordingly, the application is denied.

Signed at Washington, DC, this 27th day of February, 2004.
Elliott S. Kushner,
Certifying Officer, Division of Trade Adjustment Assistance.

[FR Doc. 04-5608 Filed 3-11-04; 8:45 am]

BILLING CODE 4510-30-P